NATIONAL SCIENCE FOUNDATION

President's Committee on the National Medal of Science; Notice of Meeting

In accordance with the Federal Advisory Committee Act (Pub., L. 92-463, as amended), the National Science Foundation (NSF) announces the following meeting:

Name and Committee Code: Presidential Committee on the National Medal of Science (#1182).

Date and Time: December 15, 2022; 8:30 a.m.-5 p.m. (Eastern).

Place: NSF, 2415 Eisenhower Avenue, Alexandria, VA 22314 (Virtual).

Type of Meeting: Closed.

Contact Persons: Gayle Pugh Lev, National Science Foundation, 2415 Eisenhower Avenue, Alexandria, VA 22314; Telephone: 703-292-7589.

Purpose of Meeting: Virtual meeting to provide advice and recommendations to the President in the selection of the 2022 National Medal of Science laureates. The committee assists the President in carrying out his responsibilities under 42 U.S.C. 1880-1881.

Agenda: To review and evaluate nominations as part of the selection process for awards.

Reason for Closing: The nominations being reviewed include information of a personal nature where disclosure would constitute unwarranted invasions of personal privacy. These matters are exempt under 5 U.S.C. 552b(c), (6) of the Government in the Sunshine Act.

Dated: November 10, 2022.
Crystal Robinson,
Committee Management Officer.

[FR Doc. 2022-24934 Filed 11-15-22; 8:45 am]

BILLING CODE 7555-01-P